DEPARTMENT OF HEALTH AND HUMAN SERVICES

Health Resources and Services Administration

Charter Renewal for Advisory Council on Blood Stem Cell Transplantation

AGENCY: Health Resources and Services Administration (HRSA), Department of Health and Human Services.

ACTION: Notice.

SUMMARY: In accordance with the Federal Advisory Committee Act (FACA), the Department of Health and Human Services is hereby giving notice that the Advisory Council on Blood Stem Cell Transplantation (ACBSCT) has been renewed.

DATES: The effective date of the charter renewal is February 19, 2025.

FOR FURTHER INFORMATION CONTACT: Shelley Tims Grant, Designated Federal Officer Health Systems Bureau, HRSA, 5600 Fishers Lane, 08W-59, Rockville, Maryland, 20857; 301-443-8036; or sgrant@hrsa.gov.

SUPPLEMENTARY INFORMATION: ACBSCT advises, assists, consult withs, and makes recommendations to the Secretary of Health and Human Services (Secretary) on matters related to the C.W. Bill Young Cell Transplantation Program and National Cord Blood Inventory. ACBSCT may also provide advice to the Administrator of HRSA. According to Public Law 109-129, and as amended, and 42 U.S.C. 274k (section 379 of the Public Health Service Act), the principal purpose of these programs is to increase the number of transplants for recipients suitably matched to biologically unrelated donors of bone marrow and cord blood. According to Public Law 109-129, and as amended, ACBSCT shall, as requested by the Secretary, discuss and make recommendations regarding the C.W. Bill Young Cell Transplantation Program or the National Cord Blood Inventory. It shall provide a consolidated, comprehensive source of expert, unbiased analysis, and recommendations to the Secretary on the latest advances in the science of blood stem cell transplantation and donation. ACBSCT may also review the state of the science, using adult stem cells and birthing tissues to develop new types of therapies for patients, to consider the potential inclusion of such new types of therapies in the C.W. Bill Young Cell Transplantation Program.

The charter renewal for ACBSCT was approved on February 19, 2025. The filing date is February 19, 2025. The renewal of the ACBSCT charter gives authorization for the council to operate until February 19, 2027.

A copy of the ACBSCT charter is available on the ACBSCT website at https://bloodstemcell.hrsa.gov/about/advisory-council. A copy of the charter also can be obtained by accessing the FACA database that is maintained by the Committee Management Secretariat under the General Services Administration. The website address for the FACA database is: https://www.facadatabase.gov/.

Maria G. Button,
Director, Executive Secretariat.

[FR Doc. 2025-05112 Filed 3-25-25; 8:45 am]

BILLING CODE 4165-15-P